DEPARTMENT OF COMMERCE

National Oceanic and Atmospheric Administration

RIN 0648-XD937

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a joint meeting of its Special Coral Scientific and Statistical Committee (SSC) and Coral Advisory Panel (AP).

DATES: The meeting will convene on Wednesday, May 27, 2015, from 8:30 a.m. until 4:30 p.m.

ADDRESSES: The meeting will be held at the Gulf of Mexico Fishery Management Council's office, 2203 North Lois Avenue, Suite 1100, Tampa, FL 33607.

FOR FURTHER INFORMATION CONTACT: Dr. Morgan Kilgour, Ph.D., Fishery Biologist, Gulf of Mexico Fishery Management Council; telephone: (813) 348-1630; fax: (813) 348-1711; email: morgan.kilgour@gulfcouncil.org.

SUPPLEMENTARY INFORMATION: The items of discussion on the agenda are as follows:

Joint Special Coral Scientific and Statistical Committee (SSC) and Coral Advisory Panel (AP) Meeting Agenda, Wednesday, May 27, 2015, 8:30 a.m. Until 4:30 p.m.

I. Election of Coral Advisory Panel (AP) chair

II. Adoption of the Agenda

III. Approval of Minutes From the April 24, 2014, Joint Coral SSC/AP Meeting

IV. Council Charge—“to determine the criteria and boundaries, and other specifics for potential sites, and once that has been determined, that this group meet with representatives of any potentially impacted fisheries and members of law enforcement.”

V. Plan of Work

VI. Review Report From the Coral Working Group

a. Flower Garden Banks National Marine Sanctuary Proposed Boundary Expansion Update

b. Pulley Ridge Proposed Boundary Expansion Update

VII. Discuss Individual Sites Identified by the Coral Working Group

a. Review and Discuss Information

b. Evaluate Appropriate Boundaries or Areas

c. Make Recommendations on Appropriate Areas

d. Potential Fishery Interactions

VIII. Other Business

a. Discuss Timeline for Next Steps

Adjourn

This agenda may be modified as necessary to facilitate the discussion of pertinent materials up to and during the scheduled meeting.

For meeting materials see folder “Joint Special Coral SSC and Coral AP Meeting—2015-05” on Gulf Council file server. To access the file server, the URL is https://public.gulfcouncil.org:5001/webman/index.cgi, or go to the Council's Web site and click on the FTP link in the lower left of the Council Web site (http://www.gulfcouncil.org). The username and password are both “gulfguest”. The meeting will be webcast over the Internet. A link to the webcast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: May 5, 2015.
Tracey L. Thompson,
Acting Deputy Director, Office of Sustainable Fisheries, National Marine Fisheries Service.

[FR Doc. 2015-11118 Filed 5-7-15; 8:45 am]

BILLING CODE 3510-22-P